ENVIRONMENTAL PROTECTION AGENCY

[9680-4]

Good Neighbor Environmental Board

AGENCY: Environmental Protection Agency (EPA).

ACTION: Request for nominations to the Good Neighbor Environmental Board.

SUMMARY: The U.S. Environmental Protection Agency (EPA) invites nominations from a diverse range of qualified candidates to be considered for appointment to its Good Neighbor Environmental Board. Sources in addition to this Federal Register Notice may also be utilized in the solicitation of nominees.

Background: GNEB is a federal advisory committee chartered under the Federal Advisory Committee Act (FACA), Public Law 92-463. GNEB was created in 1992 by the Enterprise for the Americas Initiative Act, Public Law 102-532, 7 U.S.C. Section 5404. Implementing authority was delegated to the Administrator of EPA under Executive Order 12916. The GNEB is responsible for providing advice to the President on environmental and infrastructure issues and needs within the States contiguous to Mexico in order to improve the quality of life of persons residing on the United States side of the border. The statute calls for the GNEB to have representatives from U.S. Government agencies; the states of Arizona, California, New Mexico and Texas; and tribal and private organizations with experience in environmental and infrastructure issues along the U.S./Mexico Border. Members are appointed by the EPA Administrator for two year terms with the possibility of reappointment to a second term. The GNEB meets approximately three times annually.

The GNEB provides guidance to the President on environmental and infrastructure issues along the U.S.-Mexico border in the form of an annual report and through advice letters. Although we are unable to offer compensation or an honorarium for your services, you may receive travel and per diem allowances, according to applicable federal travel regulations. The GNEB is seeking nominations from a variety of nongovernmental interests along the U.S.-Mexico border from the private sector, academia, environmental groups, health groups, ranching and grazing, energy, and other relevant sectors. EPA values and welcomes diversity. In an effort to obtain nominations of diverse candidates, EPA encourages nominations of women and men of all racial and ethnic groups.

The following criteria will be used to evaluate nominees:

• The background and experiences that would help members contribute to the diversity of perspectives on the committee (e.g., geographic, economic, social, cultural, educational, and other considerations).

• Representative of a sector or group that helps to shape border-region environmental policy or representatives of a group that is affected by border region environmental policy.

• Has extensive professional knowledge and experience with the particular issues that the GNEB examines (i.e., environmental and infrastructure issues along the U.S.-Mexico border), including the bi-national dimension of these issues.

• Bring senior level experience that will fill a need of the GNEB in bringing a new and relevant dimension to its deliberations.

• Possesses a demonstrated ability to work in a consensus building process with a wide range of representatives from diverse constituencies.

• Ability to contribute approximately 10 to 15 hours per month to the GNEB's activities, including face-to-face meetings, conference calls, and participation in the development of the GNEB's annual report to the President and comment letters.

• Nominees may self nominate by submitting a resume describing their professional and educational qualifications, including current business address, email, and daytime telephone number.

• All nominees must demonstrate the potential for active and constructive involvement in the GNEB's work.

To help the Agency in evaluating the effectiveness of its outreach efforts, please tell us how you learned of this opportunity.

Please be aware that EPA's policy is that, unless otherwise prescribed by statute, members generally are appointed to two- or three-year terms.

ADDRESSES: Submit nominations to Mark Joyce, Acting Designated Federal Officer, Office of Federal Advisory Committee Management and Outreach (1601M), 1200 Pennsylvania Avenue NW., Washington, DC 20460. You may also email nominations with the subject line COMMITTEE RESUME 2012 to joyce.mark@epa.gov.

FOR FURTHER INFORMATION CONTACT: Mark Joyce, Acting Designated Federal Officer, U.S. EPA, telephone 202-564-2130, fax: 202-564-8129.

Dated: May 22, 2012.
Mark Joyce,
Acting Designated Federal Officer.

[FR Doc. 2012-13345 Filed 5-31-12; 8:45 am]

BILLING CODE 6560-50-P